DEPARTMENT OF AGRICULTURE

Farm Service Agency

Dairy Industry Advisory Committee; Public Meeting

AGENCY: Farm Service Agency, USDA.

ACTION: Notice of public meeting.

SUMMARY: As required by the Federal Advisory Committee Act, as amended, the Farm Service Agency (FSA) announces a public meeting of the newly established Dairy Industry Advisory Committee (Dairy Committee) to review the current state of the dairy industry, discuss current dairy programs of the U.S. Department of Agriculture (USDA) and Federal dairy policy, hear proposals from the dairy industry, and hear public comments. The Dairy Committee is responsible for advising the Secretary on these issues.

DATES: Public meeting: April 13 through April 15, 2010.

Registration: To attend the meeting, register by April 6, 2010.

Comments: We will consider comments that we receive by April 15, 2010.

ADDRESSES: We invite you to participate in the meeting and to submit comments. The public meeting location is: The USDA headquarters, in the Jamie L. Whitten Building, Room 104-A, 12th Street SW. and Jefferson Drive, Washington, DC 20250. The meeting is open to the public. Instructions regarding registering for and attending the meeting are in the SUPPLEMENTARY INFORMATION section of this notice.

You may submit comments by any of the following methods:

• Online: Go to http://www.fsa.usda.gov/DIAC. Follow the online instructions for submitting comments,

• E-mail: DIAC@wdc.usda.gov, or

• Orally at the meeting; please also provide a written copy of your comments.

FOR FURTHER INFORMATION CONTACT: Solomon Whitfield, Designated Federal Official; phone: (202) 720-9886; e-mail: solomon.whitfield@wdc.usda.gov. Persons with disabilities who require alternative means for communication (Braille, large print, audio tape, etc.) should contact the USDA Target Center at (202) 720-2600 (voice and TDD).

SUPPLEMENTARY INFORMATION: In August 2009, USDA established the Dairy Committee. The Dairy Committee will review the issues of farm milk price volatility and dairy farmer profitability. The Dairy Committee will provide recommendations to the Secretary on how USDA can best address these issues to meet the dairy industry's needs.

The Dairy Committee will hold its first meeting April 13 through April 15, 2010, from 8:30 a.m. to 5 p.m. each day. The purpose of the meeting is to:

• Discuss the current state of the dairy industry,

• Review current USDA programs and Federal dairy policy,

• Hear proposals from dairy industry groups, and

• Allow comments from the public.

The meeting is open to the public. The dairy industry and public are invited to provide comments at either the meeting on April 15, 2010, or through any of the addresses listed above.

Instructions for Attending the Meeting

Space for attendance at the meeting is limited. Due to USDA headquarters security and space requirements, all persons wishing to attend the meeting must send an e-mail to DIAC@wdc.usda.gov by April 6, 2010, to register the names of those planning to attend. Registrations will be accepted until maximum room capacity is reached. Upon arrival at the USDA Whitten Building, registered persons must provide a valid photo ID in order to enter. Additional information about the public meeting, including directions and how to provide comments is available at the Dairy Committee Web site: http://www.fsa.usda.gov/DIAC.

Meeting agenda, materials, and minutes will be made available on the Web site for meetings, as available.

The Secretary of Agriculture selected a diverse group of members representing a broad spectrum of persons interested in providing suggestions and ideas on how USDA can tailor its programs to meet the dairy industry's needs. Equal opportunity practices were considered in all appointments to the Dairy Committee in accordance with USDA policies. The Secretary announced the members on January 6, 2010. Representatives include: producers and producer organizations, processors and processor organizations, consumers, academia, retailers, and a State representative.

If you require special accommodations, such as a sign language interpreter, please use the contact information above.

Notice of this meeting is provided in accordance with section 10(a)(2) of the Federal Advisory Committee Act (Pub. L. 92-463).

Signed in Washington, DC on March 18, 2010.
Jonathan W. Coppess,
Administrator, Farm Service Agency.

[FR Doc. 2010-6680 Filed 3-25-10; 8:45 am]

BILLING CODE 3410-05-P